DEPARTMENT OF STATE

[Public Notice 8180]

Advisory Committee on Historical Diplomatic Documentation; Notice of Meeting

SUMMARY: The information regarding the meeting of the Advisory Committee on Historical Diplomatic Documentation on February 25-26 has changed from that provided in the previous Federal Register Notice at 78 FR 1298, January 8, 2013.

The Committee's sessions in the morning and afternoon of Monday, February 25, 2013 will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

The Committee will meet in open session from 10:15 a.m.-11:00 a.m. on Tuesday, February 26, 2013, in the Department of State, 2201 “C” Street NW., Washington, DC, in Conference Room 1205, to discuss declassification and transfer of Department of State records to the National Archives and Records Administration and the status of the Foreign Relations series.

Prior notification and a valid government-issued photo ID (such as driver's license, passport, U.S. government or military ID) are required for entrance into the building. Members of the public planning to attend the meeting on February 26, 2013, RSVP to Colby Prevost, Office of the Historian (202-663-1147) no later than February 18, 2013. When responding, please provide date of birth, valid government-issued photo identification number and type (such as driver's license number/state, passport number/country, or U.S. government ID number/agency or military ID number/branch), and relevant telephone numbers. If you cannot provide one of the specified forms of ID, please consult with Colby Prevost for acceptable alternative forms of picture identification.

In addition, any requests for reasonable accommodation should be made no later than February 18 for the February 26th meeting. Requests for reasonable accommodation received after those dates will be considered, but might be impossible to fulfill.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf, for additional information.

Questions concerning the meeting should be directed to Stephen P. Randolph, Executive Secretary, Advisory Committee on Historical Diplomatic Documentation, Department of State, Office of the Historian, Washington, DC, 20520, telephone (202) 663-1123, (email history@state.gov).

Dated: January 30, 2013.
Stephen P. Randolph,
Executive Secretary, Advisory Committee on Historical, Diplomatic Documentation, Department of State.

[FR Doc. 2013-02780 Filed 2-6-13; 8:45 am]

BILLING CODE 4710-11-P